DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to Epic Gardens of Richmond, Virginia, an exclusive license to the varieties of edamame soybeans described in Plant Variety Protection Certificate Number 200300169, “Moon Cake”, issued on December 15, 2003, Plant Variety Protection Certificate Number 200300208, “Asmara”, issued on April 27, 2004, Plant Variety Protection Certificate Number 200300241, “Randolf”, issued on April 27, 2004, and Plant Variety Protection Certificate Number 200300250, “Owens”, issued on April 27, 2004.

DATES: Comments must be received within thirty (30) days of the date of publication of this Notice in the Federal Register.

ADDRESSES: Send comments to: USDA, ARS, Office of Technology Transfer, 5601 Sunnyside Avenue, Rm. 4-1174, Beltsville, Maryland 20705-5131.

FOR FURTHER INFORMATION CONTACT: June Blalock of the Office of Technology Transfer at the Beltsville address given above; telephone: 301-504-5989.

SUPPLEMENTARY INFORMATION: The Federal Government's rights in these plant varieties are assigned to the United States of America, as represented by the Secretary of Agriculture. It is in the public interest to so license these varieties as Epic Gardens of Richmond, Virginia has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Richard J. Brenner,
Assistant Administrator.

[FR Doc. E7-16241 Filed 8-17-07; 8:45 am]

BILLING CODE 3410-03-P